DEPARTMENT OF AGRICULTURE

Agricultural Marketing Service

[Doc. No. CN-06-002]

Recommendations of Advisory Committee on Universal Cotton Standards

AGENCY: Agricultural Marketing Service, USDA.

ACTION: Notice.

SUMMARY: The Agricultural Marketing Service (AMS) held a meeting of the Universal Cotton Standards Advisory Committee in Memphis, Tennessee on June 9 and 10, 2005. This notice announces the Advisory Committee's recommendation to expand the Universal Cotton Standards Agreement to include Universal HVI Cotton Color Standards and to recognize the color tolerance for Rd and +b as defined by USDA Guidelines for HVI Testing. These guidelines can be obtained on the Internet from the USDA, AMS, Cotton Program's Web site at http://www.ams.usda.gov/cotton/cnpubs.htm.

DATES: Comments must be received on or before January 31, 2006.

ADDRESSES: Interested persons are invited to submit written comments concerning the Advisory Committee's recommendation to Darryl W. Earnest, Deputy Administrator, Cotton Program, Agricultural Marketing Service, USDA, 1400 Independence Ave., SW., STOP 0224, Washington, DC 20250-0224. Comments should be submitted in triplicate. Comments may also be submitted electronically to: cottoncomments@usda.gov or http://www.regulations.gov. All comments should reference the docket number and the date and page number of this issue of the Federal Register. All comments received will be made available for public inspection at the Cotton Program, AMS, USDA, Room 2641-S, 1400 Independence Ave., SW., Washington, DC 20250 during regular business hours. A copy of this notice may be found at: www.ams.usda.gov/cotton/rulemaking.htm.

FOR FURTHER INFORMATION CONTACT: Darryl W. Earnest, Deputy Administrator, Cotton Program, AMS, USDA, 1400 Independence Ave., SW., STOP 0224, Washington, DC 20250-0224, telephone 202-720-3193, facsimile 202-690-1718, or e-mail at darryl.earnest@usda.gov.

SUPPLEMENTARY INFORMATION: The Universal Cotton Standards Advisory Committee meets triennially to consider any necessary changes to the Universal Cotton Standards and to review freshly prepared sets of Universal Cotton Standards for conformity with the existing standards.

At its June 9-10, 2005, meeting the committee recommended to expand the Universal Cotton Standards Agreement to include Universal HVI Cotton Color Standards and to recognize the color tolerance for RD and +b as defined by USDA Guidelines for HVI Testing. These guidelines can be obtained on the Internet at http://www.ams.usda.gov/cotton/cnpubs.htm.

High Volume Instrument (HVI) Classing of cotton has been available on an optional basis since 1980. Since 1991, HVI classification has been provided on all cotton classed by USDA along with the classer color grade and leaf grade, which conform to the Universal Grade Standards. HVI systems provide the most scientific and reliable sources of cotton quality information available. The advisory committee includes representatives of all segments of the U.S. cotton industry and the 23 overseas cotton associations that are signatories to the Universal Cotton Standards Agreement. Adoption of this recommendation will continue to facilitate establishing a universal language for the marketing of U.S. cotton under the HVI classification system.

Authority: 7 U.S.C. 51-65.

Dated: November 28, 2005.
Lloyd C. Day,
Administrator, Agricultural Marketing Service.

[FR Doc. E5-6781 Filed 12-1-05; 8:45 am]

BILLING CODE 3410-02-P